DEPARTMENT OF TRANSPORTATION

Federal Highway Administration

MORRIS K. UDALL SCHOLARSHIP AND EXCELLENCE IN NATIONAL ENVIRONMENTAL POLICY FOUNDATION

[Docket No. FHWA-2006-25031]

U.S. Institute for Environmental Conflict Resolution; Request for Public Participation in National Outdoor Advertising Control Program Assessment

AGENCIES: Federal Highway Administration (FHWA), DOT and United States Institute for Environmental Conflict Resolution (U.S. Institute).

ACTION: Notice; request for public input on program assessment.

SUMMARY: The FHWA and the U.S. Institute have initiated an assessment of the national outdoor advertising control (OAC) program, which implements the provisions of 23 U.S.C. 131. The goal of the assessment is to reach out, through a neutral entity, to parties interested in OAC to identify issues that cause controversy, perspectives of the various stakeholders, and appropriate methods for addressing conflicts and improving program results. The U.S. Institute, operating under an interagency agreement with the FHWA, is responsible for carrying out the neutral conflict assessment process. This notice describes the first of several opportunities for public participation in the assessment process. At this time, the public is invited to identify any OAC issues that should be considered during the assessment. The public also is invited to suggest persons or entities with particular interests or expertise in outdoor advertising and the OAC program, that the assessors should consider contacting as a part of the assessment proceedings.

DATES: Comments must be received on or before August 21, 2006.

ADDRESSES:

Comments on OAC Issues

Mail or hand deliver comments about OAC issues that should be considered in the assessment to the U.S. Department of Transportation, Dockets Management Facility, Room PL-401, 400 Seventh Street, SW., Washington, DC 20590, or submit electronically at http://dms.dot.gov or fax comments to (202) 493-2251. All comments should include the docket number that appears in the heading of this document.

All comments received will be available for examination and copying at the above address from 9 a.m. to 5 p.m., e.t., Monday through Friday, except Federal holidays. Those desiring notification of receipt of comments must include a self-addressed, stamped postcard or may print the acknowledgement page that appears after submitting comments electronically. Anyone is able to search the electronic form of all comments received into any of DOT's dockets by the name of the individual submitting the comment (or signing the comment, if submitted on behalf of an association, business, labor union, etc.)

Names of Persons or Entities To Be Contacted as Part of the Assessment

Mail or hand deliver suggested names of persons or entities to be contacted as part of the assessment to the Morris K. Udall Foundation, U.S. Institute for Environmental Conflict Resolution, attn: Ms. Gail Brooks, 130 South Scott Avenue, Tucson, AZ 85701, or submit electronically by e-mail to oac@ecr.gov, or fax to (510) 670-5530. Contact information for such persons or entities, if available to the submitter, should be included in the submission.

Names and contact information for such persons or entities should be provided only to the U.S. Institute as directed above in order to protect the privacy of the persons or entities suggested. Do not include name and contact information with comments about OAC issues to be filed with the DOT Document Management Facility. Persons making comments may review DOT's complete Privacy Act Statement in the Federal Register published April 11, 2000 (Volume 65, Number 70, Pages 19477-78), or may visit http://dms.dot.gov.

FOR FURTHER INFORMATION CONTACT: For the FHWA: Mr. Gerald Solomon, Office of Real Estate Services (HEPR), (202) 366-2019, gerald.solomon@dot.gov; for legal questions, Mr. Robert Black, Office of Chief Counsel (HCC), (202) 366-1359, robert.black@dot.gov; Federal Highway Administration, 400 Seventh Street, SW., Washington, DC 20590. For the U.S. Institute: Dale Keyes, Senior Program Manager, keyes@ecr.gov, (520) 670-5653 or Gail Brooks, Program Associate, brooks@ecr.gov, (520) 670-5299; U.S. Institute for Environmental Conflict Resolution, 130 South Scott Avenue, Tucson, AZ 85701. Business hours for the Federal Highway Administration are 7:45 a.m. to 4:15 p.m. (e.t.), Monday through Friday, except Federal holidays.

SUPPLEMENTARY INFORMATION:

Electronic Access

You may submit or retrieve comments online through the Docket Management System (DMS) at http://dms.dot.gov/submit. The DMS is available 24 hours each day, 365 days a year. Electronic submission and retrieval help and guidelines are available under the help section of the Web site.

An electronic copy of this notice may be downloaded using a computer, modem and suitable communications software from the Government Printing Office's Electronic Bulletin Board Service at (202) 512-1661. Internet users may reach the Office of the Federal Register's home page at http://www.archives.gov and the Government Printing Office's Web site at http://www.access.gpo.gov.

Background

The U.S. Congress adopted the first Federal legislation pertaining to the control of outdoor advertising signs (signs) near Federal-aid highways in the Federal-Aid Highway Act of 1958. That legislation established the voluntary Bonus Program to control outdoor advertising signs within 660 feet of the Interstate System. The Bonus Program provided a monetary incentive to the States to adopt programs that controlled outdoor advertising in accordance with national standards specified in the legislation.

In 1965, Congress passed the Highway Beautification Act (HBA), 23 U.S.C. 131, which substantially amended the original law and today governs the Federal outdoor advertising control program. Unlike the Bonus Program, States are required to comply with the HBA. The first section of the HBA sets forth the basic program objectives: “The erection and maintenance of outdoor advertising signs, displays, and devices in areas adjacent to the Interstate System and the primary system should be controlled in order to protect the public investment in such highways, to promote the safety and recreational value of public travel, and to preserve natural beauty.” The FHWA promulgated regulations in 1973, which appear in parts 180 and 750 of title 23, Code of Federal Regulations (CFR). Most provisions of the HBA and the regulations have remained largely unchanged since their original adoption.

Under the HBA, States are responsible for implementing the OAC program in a manner consistent with the Federal law and regulations. Failure by a State to maintain effective control can result in the withholding of a portion of the State's Federal-aid highway funds. Most States have assigned administrative responsibility for OAC to their transportation agencies.

The HBA requires States to develop standards governing various aspects of the program, and mandates compensation to sign owners when a State's action in removing a sign constitutes a regulatory taking. Pursuant to the HBA, there are areas in which signs can be legally erected, areas where they cannot be erected, and limitations on the size, lighting, and spacing of signs. Signs erected legally prior to the adoption of the regulatory controls with which they do not conform were given limited “grandfathering” protection as non-conforming signs. The law affirmatively requires States to remove illegal signs, which do not comply with applicable laws and regulations and are not grandfathered.

Since the adoption of the HBA and the implementing regulations, there have been substantial changes in relevant practices, technologies, and local conditions. As a result, many of those affected by the OAC program see an increasing gap between current Federal law and regulations and the needs of States, local communities, advertisers, sign owners, owners of properties on which signs are located, interest groups, and the traveling public. Enforcement of Federal and State laws, and the interface between OAC and local zoning laws, create challenges across the country. These difficulties raise questions about the effectiveness of the current national OAC program.

The FHWA wishes to better understand the nature and complexity of the conflicts that have developed in connection with the HBA, and what paths toward resolution are available. The FHWA requested assistance with this effort from the U.S. Institute, which specializes in environmental conflict assessment and resolution.

In accordance with its statutory authority, the 1998 Environmental Policy and Conflict Resolution Act (Pub. L. 105-156, codified at 20 U.S.C. 5601 et seq.), the U.S. Institute will conduct a comprehensive and neutral conflict assessment of the OAC program. The U.S. Institute will serve an independent and impartial role, accountable to all the interested parties and participants. Confidentiality of all private conversations will be protected. The U.S. Institute will oversee the assessment process, and has contracted with the Osprey Group, a private conflict resolution company, to gather information and conduct other aspects of the assessment, and to prepare the assessment report. For more information on the U.S. Institute, please visit http://www.ecr.gov.

The goal of the OAC program neutral conflict assessment is to identify areas of conflict, stakeholders affected by or interested in the issues, the stakeholders' positions and proposed solutions, and their willingness to engage in efforts to address and resolve the issues. The assessment will be accomplished through discussions with key stakeholders (individually or in groups) and public listening sessions.

The assessment report prepared by the U.S. Institute and the Osprey Group will convey findings and identify options for future action, including whether a future collaborative problem-solving process would be appropriate. The final product will contain a set of recommendations from the assessors for actions by the FHWA and others to address OAC program conflicts. After the U.S. Institute submits its assessment report, the FHWA will place a copy of the report in the docket. Additionally, the FHWA will announce in the Federal Register availability of this report and ask for public comments on the report.

The OAC program assessment process will offer public participation opportunities in several ways. The first is this request for public comments about which issues the assessment should consider and who should be considered for inclusion in discussion activities. There also will be public listening sessions in several cities around the country, at which any member of the public may attend and provide information. An announcement of the dates, times, and locations of those sessions will be posted in the docket, available as described above. After consideration of the assessment report and public comments on it, the FHWA will file in the same docket a summary of its review of the results of the OAC program neutral conflict assessment.

Information on the FHWA OAC program is available online at http://www.fhwa.dot.gov/realestate/out_ad.htm or by contacting the FHWA at the address listed above. Additional OAC resources include: National Alliance of Highway Beautification Agencies, http://www.nahba.org/; Outdoor Advertising Association of America, http://www.oaaa.org; and Scenic America, http://www.scenic.org/.

Comments received after the comment closing date will be filed in the docket and will be considered to the extent practicable. In addition to late comments, the FHWA also will continue to file in the docket relevant information that becomes available after the closing date, and interested persons should continue to examine the docket for new material. Names of persons or entities that the assessors should consider contacting as part of the assessment that are received by the U.S. Institute after the comment closing date also will be considered to the extent practicable.

(Authority: 23 U.S.C. 131; 20 U.S.C. 5601 et seq.)

Issued on: July 13, 2006.
Christopher L. Helms,
Executive Director, Morris K. Udall Scholarship and Excellence in National Environmental Policy Foundation.
Frederick G. Wright, Jr.,
Federal Highway Executive Director.

[FR Doc. 06-6355 Filed 7-19-06; 8:45 am]

BILLING CODE 4910-22-P